DEPARTMENT OF THE INTERIOR

Bureau of Land Management

[UT-020-03-2821-HU-Q133]

Emergency Restriction of Public Lands: Tooele County, UT

AGENCY: Bureau of Land Management, Salt Lake Field Office, Utah.

ACTION: Emergency restriction of public land in Tooele County, Utah.

SUMMARY: The Salt Lake Field Office, Bureau of Land Management (BLM) is giving notice that we are temporarily restricting a portion of public land to all motorized vehicle use, from August 6, 2003 to August 6, 2005. The restricted area is within the Fivemile Pass proposed Special Recreation Management Area (SRMA) in Alma Young Canyon and Mitchell Canyon.

The affected public lands include:

T. 6.S., R. 3 W., SLM,

Section 17, SW½,

Section 19, E½,

Section 20, W½,

Section 29, all public lands in the W½NW¼ north of the Sunshine Canyon Road,

Section 30, all public lands in section north and west of the Sunshine Canyon Road;

T. 6 S., R. 4 W.,

Section 25, all public lands east of that certain bench road running from northwest to southeast in the E½NE¼.

The restricted area contains 1,280 acres, more or less.

Motorized vehicle use on the above described area will not be allowed during this temporary restriction in order to protect the watershed, allow for successful rehabilitation activities, reestablish native vegetation and prevent the spread of noxious and invasive weed species. BLM will post vehicle restriction signs at main entry points to this area and will fence the mouths of both canyons. You may obtain maps of the restriction area and information from the Salt Lake Field Office.

DATES: This restriction will be in effect from August 6, 2003 until to August 6, 2005. At the end of this period of time, BLM will evaluate the success of the rehabilitation efforts and determine if the restriction should be extended.

FOR FURTHER INFORMATION CONTACT: Britta Laub, Outdoor Recreation Planner, or Michael Nelson, Realty Specialist, 2370 S. 2300 W. Salt Lake City, Utah 84119, (801) 977-4300.

Discussion of the Rules: This restriction to public access and use will serve to protect watershed and rehabilitation efforts as a result of the Sunshine Canyon Fire incident #Q133, a lightning caused wildfire that began on July 18, 2003 and was controlled on July 21, 2003. The area where the wildfire occurred is within a heavily used OHV (Off Highway Vehicle) area known as the Fivemile Pass proposed Special Recreation Management Area. In order to protect recently burned steep slopes and planned rehabilitation projects until the natural vegetation is able to reestablish, the area must be temporarily restricted to motorized vehicle use.

A map depicting the restricted area is available for public inspection at the Bureau of Land Management, Salt Lake Field Office.

Therefore, we find good cause to make this restriction effective immediately, notwithstanding the notice and comment requirements of the Administrative Procedure Act, 5 U.S.C. 553.

Under the authority of 43 CFR 9268.3(d)(1)(I), 43 CFR 8364.1(a), and 43 CFR 4190.1, BLM will enforce the following rule on public lands within the closed area:

You must not enter the restricted area.

Exemptions: Persons who are exempt from these rules include:

(1) Any Federal, State, or local officer or employee in the scope of their duties;

(2) Members of any organized rescue or fire-fighting force in performance of an official duty; and

(3) Any person authorized in writing by the Bureau of Land Management.

Penalties: The authorities for this restriction are section 303(a) of the Federal Land Policy and Management Act of 1976 (43 U.S.C. 1733(a)) and 43 CFR 8360.0-7. Any person who violates this restriction may be tried before a United States Magistrate and fined no more than $1,000 or imprisoned for no more than 12 months, or both. Such violations may also be subject to the enhanced fines provided for by 18 U.S.C. 3571.

Dated: August 6, 2003.
Glenn A. Carpenter,
Field Office Manager, Salt Lake Field Office.

[FR Doc. 03-23448 Filed 9-12-03; 8:45 am]

BILLING CODE 4310-HC-P